DEPARTMENT OF LABOR

Mine Safety and Health Administration

Summary of Decisions Granting in Whole or in Part Petitions for Modification

AGENCY: Mine Safety and Health Administration (MSHA), Labor.

ACTION: Notice of affirmative decisions issued by the Administrators for Coal Mine Safety and Health and Metal and Nonmetal Mine Safety and Health on petitions for modification of the application of mandatory safety standards.

SUMMARY: Under section 101 of the Federal Mine Safety and Health Act of 1977, the Secretary of Labor (Secretary) may allow the modification of the application of a mandatory safety standard to a mine if the Secretary determines either that an alternate method exists at a specific mine that will guarantee no less protection for the miners affected than that provided by the standard, or that the application of the standard at a specific mine will result in a diminution of safety to the affected miners.

Final decisions on these petitions are based on the petitioner's statements, comments and information submitted by interested persons, and a field investigation of the conditions at the mine. As designee of the Secretary, we have granted or partially granted the requests for modification listed below. In some instances, the decisions are conditioned upon compliance with stipulations stated in the decision. The term FR Notice appears in the list of affirmative decisions below. The term refers to the Federal Register volume and page where we published a notice of the filing of the petition for modification.

FOR FURTHER INFORMATION CONTACT: Petitions and copies of the final decisions are available for examination by the public in the Office of Standards, Regulations, and Variances, MSHA, 1100 Wilson Boulevard, Room 2350, Arlington, Virginia 22209. For further information contact Barbara Barron at 202-693-9447.

Dated at Arlington, Virginia this 22nd day of February 2006.
Robert F. Stone,
Acting Director, Office of Standards, Regulations, and Variances.

Affirmative Decisions on Petitions for Modification

Docket No.: M-2005-004-C.

FR Notice: 70 FR 7760.

Petitioner: Lone Mountain Processing, Inc.

Regulation Affected: 30 CFR 75.901(a).

Summary of Findings: Petitioner's proposal is to use a 480-volt, three-phase, 300KW/375kVA diesel-powered generator (DPG) set to supply power to a three-phase wye connected 300 KVA autotransformer and three-phase, 480-volt and 995-volt power circuits. This is considered an acceptable alternative method for the Clover Fork Mine No. 1. The petition for modification is granted for the use of the 300 Kilowatt (kW)/375 Kilovolt Amperes (KVA), 480-volt, diesel-powered generator (DPG) set to supply power to three-phase 480- and 995-volt power circuits to move mobile equipment around the mine at the Clover Fork Mine No. 1 with conditions.

Docket No.: M-2005-034-C.

FR Notice: 70 FR 32379.

Petitioner: Hopkins County Coal, LLC.

Regulation Affected: 30 CFR 75.1103-4(a).

Summary of Findings: Petitioner's proposal is to install a low-level carbon monoxide detection system as an early warning fire detection system in all belt entries where a monitoring system identifies a sensor location in lieu of identifying each belt flight. This is considered an acceptable alternative method for the Elk Creek Mine. The petition for modification is granted for the use of a carbon monoxide monitoring system that identifies the location of sensors in lieu of identifying belt flights at the Elk Creek Mine with conditions.

Docket No.: M-2005-041-C.

FR Notice: 70 FR 35710.

Petitioner: McElroy Coal Company.

Regulation Affected: 30 CFR 75.507.

Summary of Findings: Petitioner's proposal is to use non-permissible submersible pumps installed in bleeder and return entries and sealed areas of the McElroy Mine. This is considered an acceptable alternative method for the McElroy Mine. The petition for modification is granted for the use of low- and medium-voltage, three phase, alternating-current submersible pumps(s) installed in return and bleeder entries and sealed areas in the McElroy Mine with conditions.

Docket No.: M-2005-042-C.

FR Notice: 70 FR 35710.

Petitioner: Consolidation Coal Company.

Regulation Affected: 30 CFR 75.507.

Summary of Findings: Petitioner's proposal is to use non-permissible submersible pumps installed in bleeder and return entries and sealed areas of the Shoemaker Mine. This is considered an acceptable alternative method for the Shoemaker Mine. MSHA is requiring, for this petition only, that the surface pump control and power circuits be examined in accordance with 30 CFR 77.502 requirements, since the control and power circuits that enter the underground portions of the mine cannot be examined in their entirety to satisfy the requirements of 30 CFR 75.512 or the 30 CFR 75.364(b)(7) weekly examination requirement. The petition for modification is granted for the use of low- and medium-voltage, three-phase, alternating-current submersible pump(s) installed in return and bleeder entries and in sealed areas in the Shoemaker Mine with conditions.

Docket No.: M-2005-050-C.

FR Notice: 70 FR 42102.

Petitioner: Andalex Resources, Inc.

Regulation Affected: 30 CFR 75.1002.

Summary of Findings: Petitioner's proposal is to use low-voltage or battery powered non-permissible, electronic testing, diagnostic equipment or other equipment within 150 feet of pillar workings, under controlled conditions. This is considered an acceptable alternative method for the Aberdeen Mine. The petition for modification is granted for the use of low-voltage or battery-powered non-permissible electronic testing and diagnostic equipment in or inby the last open crosscut or within 150 feet of pillar workings under controlled conditions, for testing and diagnosing the mining equipment for the Aberdeen Mine with conditions.

Docket No.: M-2005-051-C.

FR Notice: 70 FR 42103.

Petitioner: Bear Gap Coal Company.

Regulation Affected: 30 CFR 75.1100-2(a)(2).

Summary of Findings: Petitioner's proposal is to use portable fire extinguishers to replace existing requirements where rock dust, water cars, and other water storage equipped with three 10 quart pails is not practical. The petitioner proposes to use two portable fire extinguishers near the slope bottom and an additional portable fire extinguisher within 500 feet of the working face. This is considered an acceptable alternative method for the Bear Gap Coal Company #6 Slope Mine. The petition for modification is granted for firefighting equipment in the working section for the Bear Gap Coal Company #6 Slope Mine with conditions.

Docket No.: M-2005-055-C.

FR Notice: 70 FR 48984.

Petitioner: Black Stallion Coal Company, LLC.

Regulation Affected: 30 CFR 75.503.

Summary of Findings: Petitioner's proposal is to use 900 feet of trailing cable on Roof Bolters and Mobile Roof Supports for trailing cables that supply 480-volt, three-phase, alternating current to roof bolters and mobile roof supports. This is considered an acceptable alternative method for the Black Stallion Mine. The petition for modification is granted for trailing cables supplying 480-volt, three-phase alternating current to roof bolters and mobile roof supports and 550-volt, three-phase alternating current to shuttle cars for the Black Stallion Mine with conditions.

Docket No.: M-2005-058-C.

FR Notice: 70 FR 48984.

Petitioner: Dodge Hill Mining Company, LLC.

Regulation Affected: 30 CFR 75.1101-1(b).

Summary of Findings: Petitioner's proposal is to conduct weekly examinations and functional testing of the deluge fire suppression systems as an alternative method of complying with the standard. This is considered an acceptable alternative method for the Dodge Hill Mine No. 1. The petition for modification is granted for the deluge-type water spray systems installed at belt-conveyor drives in lieu of blow-off dust covers for nozzles for the Dodge Hill Mine No. 1 with conditions.

Docket No.: M-2005-059-C.

FR Notice: 70 FR 48984.

Petitioner: Hopkins County Coal, LLC.

Regulation Affected: 30 CFR 75.1700.

Summary of Findings: Petitioner's proposal is to plug and mine through oil and gas wells in all mineable coal beds. This is considered an acceptable alternative method for the Elk Creek Mine. The petition for modification is granted for the Elk Creek Mine with conditions.

Docket No.: M-2005-060-C.

FR Notice: 70 FR 52449.

Petitioner: Pacific Minerals.

Regulation Affected: 30 CFR 75.1100-2(e)(2).

Summary of Findings: Petitioner's proposal is to use two portable fire extinguishers or one extinguisher having at least twice the minimum capacity in 30 CFR 75.1100-1(e) at each temporary electrical installation at the Bridger Underground Mine. This is considered an acceptable alternative method for the Bridger Underground Mine. The petition for modification is granted for the temporary electrical installations provided the petitioner maintains two portable fire extinguishers having at least the minimum capacity specified for a portable fire extinguisher in 30 CFR 75.1100-1(e), or one portable fire extinguisher with twice the minimum capacity specified in 30 CFR 75.1100-2(e) at each of the temporary electrical installations for the Bridger Underground Mine.

Docket No.: M-2005-061-C.

FR Notice: 70 FR 52449.

Petitioner: Andalex Resources, Inc.

Regulation Affected: 30 CFR 75.500(d).

Summary of Findings: Petitioner's proposal is to use low-voltage or battery-powered non-permissible, electronic testing, diagnostic equipment or other, in or inby the last open crosscut under controlled conditions. This is considered an acceptable alternative method for the Aberdeen Mine. The petition for modification is granted for the use of low-voltage or battery-powered non-permissible electronic testing and diagnostic equipment in or inby the last open crosscut or within 150 feet of pillar workings or longwall face, under controlled conditions, for testing and diagnosing the mining equipment at the Aberdeen Mine with conditions.

[FR Doc. E6-2848 Filed 2-28-06; 8:45 am]

BILLING CODE 4510-43-P